DEPARTMENT OF THE TREASURY

Submission for OMB Review; Comment Request

January 5, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 10, 2006, to be assured of consideration.

Internal Revenue Service (IRS)

OMB Number: 1545-0913.

Type of Review: Extension.

Title: Below-Market Loans FI-165-84 (NPRM).

Description: Section 7872 recharacterizes a below market loan as a market rate loan and an additional transfer by the lender to the borrower equal to the amount of imputed interest. The regulation requires both the lender and the borrower to attach a statement to their respective income tax returns for years in which they have either imputed income or claim imputed deduction under section 7872.

Respondents: Business or other for-profit and Individuals or households.

Estimated Total Burden Hours: 481,722 hours.

OMB Number: 1545-1018.

Type of Review: Extension.

Title: FI-27-89 (Temporary and Final) Real Estate Mortgage Investment Conduits; Reporting Requirements and Other Administrative Matters; FI-61-91 (Final) Allocation of Allocable Investment Expense; Original Issue Discount Reporting Requirements.

Description: The regulations prescribe the manner in which an entity elects to be taxed as a real estate mortgage investment conduit (REMIC) and the filing requirements for REMICs and certain brokers.

Respondents: Business or other for-profit.

Estimated Total Burden Hours: 978 hours.

OMB Number: 1545-1685.

Type of Review: Extension.

Title: REG-103735-00—REG 155303-03 (Final) Tax Shelter Disclosure Statements.

Description: These regulations provide guidance on the filing requirement under section 6011 for certain corporate taxpayers engaged in transactions producing tax savings in excess certain dollar thresholds.

Respondents: Business or other for-profit and Individuals or households.

Estimated Total Burden Hours: 1 hour.

OMB Number: 1545-1964.

Type of Review: Extension.

Title: Interview and Intake Sheet.

Form: IRS form 13614.

Description: The SPEC function developed the Form 13614 that contains a standardized list of required intake questions to guide volunteers in asking taxpayers basic questions about themselves. The intake sheet is an effective tool for ensuring critical taxpayer information is obtained and applied during the interview process.

Respondents: Business or other for-profit, Individuals or households and Not-for-profit institutions.

Estimated Total Burden Hours: 211,210 hours.

Clearance Officer: Glenn P. Kirkland, Internal Revenue Service, Room 6516, 1111 Constitution Avenue, NW., Washington, DC 20224, (202) 622-3428.

OMB Reviewer: Alexander T. Hunt, Office of Management and Budget, Room 10235, New Executive Office Building, Washington, DC 20503, (202) 395-7316.

Michael A. Robinson,
Treasury PRA Clearance Officer.

[FR Doc. E6-152 Filed 1-10-06; 8:45 am]

BILLING CODE 4830-01-P